DEPARTMENT OF TRANSPORTATION

Office of the Secretary

Aviation Proceedings, Agreements Filed the Week Ending July 11, 2008

The following Agreements were filed with the Department of Transportation under the Sections 412 and 414 of the Federal Aviation Act, as amended (49 U.S.C. 1383 and 1384) and procedures governing proceedings to enforce these provisions. Answers may be filed within 21 days after the filing of the application.

Docket Number: DOT-OST-2008-0218.

Date Filed: July 10, 2008.

Parties: Members of the International Air Transport Association.

Subject: Technical Correction: Mail Vote 572—Resolution 010b, TC3 Between South East Asia and South Asian, Subcontinent, Special Passenger Amending Resolution, from Viet Nam to South Asian Subcontinent (Memo 1222), Intended effective date: 1 August 2008.

Renee V. Wright
Program Manager, Docket Operations, Federal Register Liaison.

[FR Doc. E8-17449 Filed 7-29-08; 8:45 am]

BILLING CODE 4910-9X-P